DEPARTMENT OF AGRICULTURE

Commodity Credit Corporation

Request for Approval of a New Information Collection

AGENCY: Commodity Credit Corporation, USDA.

ACTION: Notice and request for comments.

SUMMARY: The Commodity Credit Corporation (CCC) is seeking approval from the Office of Management and Budget (OMB) for the information collection activities necessary to provide vendors with an interactive web site they can use to track United States Department of Agriculture (USDA) domestic commodity shipments. The new procedure will be more reliable and more efficient than the current procedure.

DATES: Comments on this notice must be received on or before November 20, 2000 to be assured consideration.

FOR FURTHER INFORMATION CONTACT: Gregory Borchert, Chief, Planning and Analysis Division, Kansas City Commodity Office (KCCO), 6501 Beacon Drive, Kansas City, Missouri 64131-4676, telephone (816) 926-6509 or fax (816) 926-6767.

SUPPLEMENTARY INFORMATION: Title: Domestic Commodity Tracking System (DCTS).

OMB Control Number: 0560-New.

Type of Request: Approval of a new information collection.

Abstract: The Commodity Credit Corporation (CCC) purchases agricultural commodities to meet program needs and other objectives. CCC issues invitations to purchase agricultural commodities at various times during the year. Vendors respond by making offers on the contracts. After contracts are awarded, the current process of tracking shipments requires manual documentation with data gathering provided by telephone and facsimile. The Farm Service Agency (FSA), Kansas City Commodity Office (KCCO) has developed information technology to assist in tracking of shipments of transported agricultural commodities. The DCTS is a customer service endeavor which has emphasis on improved service to all customers and increased efficiency in the shipping/delivery operations. An interactive web site is designed to provide our customers with an efficient, user friendly method for inquiring on the status of shipments. Recipients and other agencies may utilize this service to determine if commodities have been purchased, the target delivery date, and date shipment was made. Accurate tracking will provide timely shipment information allowing recipients to effectively schedule their workforce. DCTS will reduce or eliminate: paperwork, document handling, mail and telephone time, postage, facsimile, and telephone expenses. The users will include: commodity vendors; transportation carriers; State Distributing Agencies; FSA, Dairy & Domestic Operations Division; Traffic Management Branch; Agricultural Marketing Service; and the Food and Nutrition Service. The equipment required to access DCTS is a personal computer, an internet service provider, and a netscape browser 4.0 or higher. Vendors will submit shipment and late delivery data electronically versus the current process of sending a hard copy.

Estimate of Burden: 3 minutes per response.

Respondents: Businesses and other for profit.

Estimated Number of Respondents: 67.

Estimated Number of Annual Responses per Respondent: 220.

Estimated Total Annual Burden on Respondents: 737 hours.

Proposed topics for comments include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology.

Comments regarding this information collection requirement should be directed to the Office of Information and Regulatory Affairs, Office of Management and Budget, Attention: Desk Officer for Agriculture, Washington, DC 20503, and to Gregory Borchert, Chief, Planning and Analysis Division, Kansas City Commodity Office, 6501 Beacon Drive, Kansas City, Missouri 64131-4676, telephone (816) 926-6509 or fax (816) 926-6767.

All responses to this notice will be summarized and included in the request for OMB approval. All comments will become a matter of public record.

Signed at Washington, DC, on September 13, 2000.
Keith Kelly,
Executive Vice President, Commodity Credit Corporation.

[FR Doc. 00-24086 Filed 9-20-00; 8:45 am]

BILLING CODE 3410-05-P